DEPARTMENT OF TRANSPORTATION

Federal Aviation Administration

14 CFR Part 39

[Docket No. FAA-2010-0678; Directorate Identifier 2010-NM-020-AD]

RIN 2120-AA64

Airworthiness Directives; the Boeing Company

AGENCY: Federal Aviation Administration (FAA), Department of Transportation (DOT).

ACTION: Proposed rule; withdrawal.

SUMMARY: The FAA withdraws a notice of proposed rulemaking (NPRM) that proposed a new airworthiness directive (AD) for certain The Boeing Company Model 777-200 and -300 series airplanes. The proposed AD would have required installing new operational software in the cabin management system, and loading new software into the mass memory card. Since the proposed AD was issued, we have received new data that indicates the unsafe condition would not be adequately addressed by the proposed action. Subsequently, we are considering issuing new rulemaking that positively addresses the unsafe condition identified in the NPRM and eliminates the need for the actions proposed in the NPRM. Accordingly, the proposed AD is withdrawn.

ADDRESSES: You may examine the AD docket on the Internet at http://www.regulations.gov; or in person at the Docket Management Facility between 9 a.m. and 5 p.m., Monday through Friday, except Federal holidays. The AD docket contains this AD action, the regulatory evaluation, any comments received, and other information. The street address for the Docket Office (phone: 800-647-5527) is the Document Management Facility, U.S. Department of Transportation, Docket Operations, M-30, West Building Ground Floor, Room W12-140, 1200 New Jersey Avenue SE., Washington, DC 20590.

FOR FURTHER INFORMATION CONTACT: Ray Mei, Aerospace Engineer, Systems and Equipment Branch, ANM-130S, FAA, Seattle Aircraft Certification Office, 1601 Lind Avenue SW., Renton, WA 98057-3356; phone: 425-917-6467; fax: 425-917-6590; email: raymont.mei@faa.gov.

SUPPLEMENTARY INFORMATION:

Discussion

We proposed to amend part 39 of the Federal Aviation Regulations (14 CFR part 39) with a notice of proposed rulemaking (NPRM) for a new AD for certain Model 777-200 and -300 series airplanes. That NPRM published in the Federal Register on July 7, 2010 (75 FR 38945). The NPRM would have required installing new operational software in the cabin management system, and loading new software into the mass memory card. The NPRM resulted from an in-flight entertainment (IFE) systems review. The proposed actions were intended to ensure that the flightcrew is able to turn off electrical power to the IFE system and other non-essential electrical systems through a switch in the flight compartment in the event of smoke or flames. In the event of smoke or flames in the airplane flight deck or passenger cabin, the flightcrew's inability to turn off electrical power to the IFE system and other non-essential electrical systems could result in the inability to control smoke or flames in the airplane flight deck or passenger cabin during a non-normal or emergency situation.

Actions Since NPRM (75 FR 38945, July 7, 2010) Was Issued

Since we issued the NPRM (75 FR 38945, July 7, 2010), we have received new data that the actions that indicates the unsafe condition would not be adequately addressed by the proposed action. Subsequently, we are considering issuing new rulemaking that positively addresses the unsafe condition identified in the NPRM and eliminates the need for the actions proposed in the NPRM.

FAA's Conclusions

Upon further consideration, we have determined that the unsafe condition still exists, however, we intend to address it with new AD rulemaking. Accordingly, the NPRM (75 FR 38945, July 7, 2010) is withdrawn.

Withdrawal of the NPRM (75 FR 38945, July 7, 2010) does not preclude the FAA from issuing another related action or commit the FAA to any course of action in the future.

Regulatory Impact

Since this action only withdraws an NPRM (75 FR 38945, July 7, 2010), it is neither a proposed nor a final rule and therefore is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, we withdraw the NPRM, Docket No. FAA-2010-0678, Directorate Identifier 2010-NM-020-AD, which published in the Federal Register on July 7, 2010 (75 FR 38945).

Issued in Renton, Washington, on February 1, 2013.
Ali Bahrami,
Manager, Transport Airplane Directorate, Aircraft Certification Service.

[FR Doc. 2013-09428 Filed 4-22-13; 8:45 am]

BILLING CODE 4910-13-P